DEPARTMENT OF THE INTERIOR

National Park Service

[NPS-WASO-NAGPRA-NPS0036573; PPWOCRADN0-PCU00RP14.R50000]

Notice of Inventory Completion: University of California, Davis, Davis, CA, and University of California, Berkeley, Berkeley, CA

AGENCY: National Park Service, Interior.

ACTION: Notice.

SUMMARY: In accordance with the Native American Graves Protection and Repatriation Act (NAGPRA), the University of California, Davis (UC Davis) and the University of California, Berkeley (UC Berkeley) have completed an inventory of human remains and associated funerary objects and have determined that there is a cultural affiliation between the human remains and associated funerary objects and Indian Tribes or Native Hawaiian organizations in this notice. The human remains and associated funerary objects were removed from Solano County, CA.

DATES: Repatriation of the human remains and associated funerary objects in this notice may occur on or after October 19, 2023.

ADDRESSES: Megon Noble, NAGPRA Project Manager, University of California, Davis, 412 Mrak Hall, One Shields Avenue, Davis, CA 95616, telephone (530) 752-8501, email mnoble@ucdavis.edu and Alex Lucas, University of California, Berkeley, Office of Government and Community Relations, 200 California Hall, Berkeley, CA 94720, telephone (510) 570-0964, email nagpra-ucb@berkeley.edu.

SUPPLEMENTARY INFORMATION: This notice is published as part of the National Park Service's administrative responsibilities under NAGPRA. The determinations in this notice are the sole responsibility of UC Davis and UC Berkeley. The National Park Service is not responsible for the determinations in this notice. Additional information on the determinations in this notice, including the results of consultation, can be found in the inventory or related records held by UC Davis and UC Berkeley.

Description

Human remains representing, at minimum, 107 individuals were removed from Solano County, CA. In 1965, CA-SOL-11 (UC Davis Accession 16) was excavated by Walt Brown and Jay Ruby as a part of two UC Davis Field Schools. The 3,263 associated funerary objects are comprised of 3,219 objects that can be located in the collections and 44 objects that cannot be located at this time. The 3,219 locatable associated funerary objects are 50 lots consisting of worked shells (including beads and pendants); 27 lots consisting of worked bones (awls, pendants, and other worked bones); 19 lots consisting of worked stone (pendants, beads, and other worked stone); 25 projectile points; 167 lots consisting of groundstones; 1,602 lots consisting of stone debitage; 128 lots consisting of chipped stones (bifaces, scrapers, cores, and flake tools); 17 lots consisting of fired clay/ceramics; 643 lots consisting of unmodified animal bones; 446 lots consisting of unmodified shells; 25 lots consisting of charcoal; four lots consisting of plant materials (seeds, nuts, acorn caps); 18 lots consisting of ochre; 26 lots consisting of ash; two lots consisting of miscellaneous minerals; and 20 lots consisting of unmodified stones. The 44 currently missing associated funerary objects are one lot consisting of worked shells; two lots consisting of worked bones; two projectile points; two lots consisting of groundstones; 11 lots consisting of stone debitage; seven lots consisting of chipped stones; two lots consisting of miscellaneous pieces of fired clay; six lots consisting of unmodified animal bones; one lot consisting of unmodified shells; two lots consisting of charcoal; one lot consisting of unmodified stones; and seven lots consisting of unknown materials.

During May-June of 1946, University of California, Berkeley student William Clifford Massey removed three associated funerary objects from CA-SOL-11, which were subsequently appropriated by the University and accessioned into the Phoebe A. Hearst Museum of Anthropology collection. The three associated funerary objects are a stone point, one lot of stone flakes, and one lot of shells.

On October 1, 1949, as part of the California Archaeological Survey, University of California, Berkeley student Arnold R. Pilling removed three associated funerary items from CA-SOL-11, which were subsequently appropriated by the University and accessioned into the Phoebe A. Hearst Museum of Anthropology. The three associated funerary objects are a scraper, a blade, and a mortar.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, biological, geographical, historical, linguistic, and oral traditional.

Determinations

Pursuant to NAGPRA and its implementing regulations, and after consultation with the appropriate Indian Tribes and Native Hawaiian organizations, UC Davis and UC Berkeley have determined that:

• The human remains described in this notice represent the physical remains of 107 individuals of Native American ancestry.

• The 3,269 objects described in this notice are reasonably believed to have been placed with or near individual human remains at the time of death or later as part of the death rite or ceremony.

• There is a relationship of shared group identity that can be reasonably traced between the human remains and associated funerary objects described in this notice and the Cachil DeHe Band of Wintun Indians of the Colusa Indian Community of the Colusa Rancheria, California; Kletsel Dehe Wintun of the Cortina Rancheria (Previously listed as Kletsel Dehe Band of Wintun Indians); and the Yocha Dehe Wintun Nation, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 19, 2023. If competing requests for repatriation are received, UC Davis and UC Berkeley must determine the most appropriate requestor prior to repatriation. Requests for joint repatriation of the human remains and associated funerary objects are considered a single request and not competing requests. UC Davis and UC Berkeley are responsible for sending a copy of this notice to the Indian Tribes identified in this notice.

Authority: Native American Graves Protection and Repatriation Act, 25 U.S.C. 3003, and the implementing regulations, 43 CFR 10.9, § 10.10, and § 10.14.

Dated: September 11, 2023.
Melanie O'Brien,
Manager, National NAGPRA Program.

[FR Doc. 2023-20189 Filed 9-18-23; 8:45 am]

BILLING CODE 4312-52-P